NATIONAL AERONAUTICS AND SPACE ADMINISTRATION

[Notice: (13-079)]

NASA Advisory Council; Education and Public Outreach Committee; Meeting

AGENCY: National Aeronautics and Space Administration.

ACTION: Notice of meeting.

SUMMARY: In accordance with the Federal Advisory Committee Act, Public Law 92-463, as amended, the National Aeronautics and Space Administration announces a meeting of the Education and Public Outreach (EPO) Committee of the NASA Advisory Council (NAC). This Committee reports to the NAC.

DATES: Tuesday, July 30, 2013, 8:30 a.m. to 5:00 p.m., Local Time.

ADDRESSES: NASA Headquarters, Room 2E39, 300 E Street SW., Washington, DC 20546.

FOR FURTHER INFORMATION CONTACT: This meeting will also take place telephonically and via WebEx. Any interested person should contact Ms. Erika G. Vick, Executive Secretary for the Education and Public Outreach Committee, National Aeronautics and Space Administration, Washington, DC, at Erika.vick-1@nasa.gov, no later than 12:00 p.m. Local Time, July 26, 2013, to get further information about participating via teleconference and/or WebEx. Presentations from previous committee meetings can be found at http://www.nasa.gov/offices/nac/EPO_Meetings.html.

SUPPLEMENTARY INFORMATION: The agenda for the meeting includes the following topics:

• NASA Education Current Activities and Plans

• NASA Communications Current Activities and Plans

• The Educational Global Climate Modeling Project

• International Space Station (ISS) 101

• Asteroid Grand Challenge

• Current/Planned Planetary Science Milestones

The meeting will be open to the public up to the seating capacity of the room. It is imperative that the meeting be held on this date to accommodate the scheduling priorities of the key participants. Attendees will be requested to sign a register and to comply with NASA security requirements, including the presentation of a valid picture ID, green card, or passport to Security before access to NASA Headquarters. Foreign nationals attending this meeting will be required to provide a copy of their passport and visa in addition to providing the following information no less than 10 working days prior to the meeting: Full name; gender, date/place of birth; citizenship; visa information (number, type, expiration date); passport information (number, country, expiration date); employer/affiliation information (name of institution, address, country, telephone); title/position of attendee; and home address to Ms. Erika Vick via fax at (202) 358-4332 or by email at Erika.vick-1@nasa.gov. U.S. citizens and Permanent Residents (green card holders) are requested to submit their name and affiliation 3 working days prior to the meeting to Ms. Erika G. Vick.

Patricia D. Rausch,
Advisory Committee Management Officer, National Aeronautics and Space Administration.

[FR Doc. 2013-16914 Filed 7-12-13; 8:45 am]

BILLING CODE 7510-13-P